DEPARTMENT OF COMMERCE

National Oceanic and Atmospheric Administration

[I.D. 011005F]

Proposed Information Collection; Comment Request; Gear-Marking Requirements in Antarctic Waters

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before March 15, 2005.

ADDRESSES: Direct all written comments to Diana Hynek, Departmental Paperwork Clearance Officer, Department of Commerce, Room 66625, 14th and Constitution Avenue, NW, Washington, DC 20230 (or via Internet at dHynek@doc.gov).

FOR FURTHER INFORMATION CONTACT: Requests for additional information or copies of the information collection instrument(s) and instructions should be directed to Robin Tuttle, F/ST3, Room 12643, SSMC-3, 1315 East-West Highway, Silver Spring, MD 20910-3282 (phone 301-713-2282, ext. 199).

SUPPLEMENTARY INFORMATION:

I. Abstract

U.S. vessels participating in Antarctic fisheries must mark their fishing gear with the vessel's official identification number, Federal permit or tag number, or another approved form of identification. The information on the gear is used for enforcement of fishery regulations.

II. Method of Collection

Identification information is displayed on fishing gear. No information is collected.

III. Data

OMB Number: 0648-0367.

Form Number: None.

Type of Review: Regular submission.

Affected Public: Business or other for-profit organizations, and individuals and households.

Estimated Number of Respondents: 3.

Estimated Time Per Response: 5 minutes to mark buoys or floats; 2 minutes to mark traps, pots, or trawl gear.

Estimated Total Annual Burden Hours: 30.

Estimated Total Annual Cost to Public: $900.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 7, 2005.
Gwellnar Banks,
Management Analyst, Office of Chief Information Officer.

[FR Doc. 05-842 Filed 1-13-05; 8:45 am]

BILLING CODE 3510-22-S